DEPARTMENT OF DEFENSE

Office of the Secretary

Availability of the Fiscal Year 2008 Washington Headquarters Services (WHS) Services Contract Inventory

AGENCY: Washington Headquarters Services, DoD.

ACTION: Notice of availability.

SUMMARY: In accordance with section 2330a of Title 10 United States Code as amended by the National Defense Authorization Act for Fiscal Year 2008 (NDAA 08) section 807, the Director of Washington Headquarters Services (WHS), in cooperation with the Director of the Acquisition and Procurement Office (WHS/A&PO), and the Office of the Director, Defense Procurement, Acquisition Policy and Strategic Sourcing (DPAP) will make available to the public its inventory of activities performed pursuant to contracts for services. The inventory will be published to the WHS/A&PO Web site at the following location: http://www.whs.mil/APO/.

DATES: Inventory publically available starting October 7, 2009.

ADDRESSES: Send written comments and suggestions concerning this inventory to Ken Sateriale, DOD/Washington Headquarters Services, Acquisition and Procurement Office, 1155 Defense Pentagon, Washington, DC 20301. Telephone (703) 696-3870 or e-mail at Kenneth.Sateriale@whs.mil.

FOR FURTHER INFORMATION CONTACT: Ken Sateriale, (703) 696-3870 or e-mail at Kenneth.Sateriale@whs.mil.

SUPPLEMENTARY INFORMATION: NDAA 08, section 807 amends section 2330a of Title 10 United States Code to require annual inventories and reviews of activities performed under services contracts. The WHS/A&PO submitted its Fiscal Year 2008 Services Contract Inventory to DPAP on August 28, 2009. Included with this inventory is a narrative that describes the methodology used to populate the Inventory data fields. The Deputy Under Secretary of Defense (Acquisition and Technology) (DUSD(AT)) transmitted WHS's inventory to Congress on September 29, 2009. The inventory does not include contract numbers, contractor identification or other proprietary or sensitive information as this data can be used to disclose a contractor's proprietary proposal information.

Dated: October 8, 2009.
Patricia L. Toppings,
OSD Federal Register Liaison Officer, Department of Defense.

[FR Doc. E9-24890 Filed 10-15-09; 8:45 am]

BILLING CODE 5001-06-P